DEPARTMENT OF THE TREASURY

Departmental Offices; Privacy Act of 1974, as Amended; System of Records

AGENCY: Departmental Offices, Treasury.

ACTION: Notice of proposed alterations to three Privacy Act systems of records.

SUMMARY: In accordance with the requirements of the Privacy Act of 1974, as amended, the Department of the Treasury is proposing to revise a routine use in two of its systems of records and adding the revised routine use to a third system of records.

DATES: Comments must be received no later than November 4, 2002. The revised systems of records will be effective as of November 13, 2002, unless comments are received that result in a contrary determination and notice is published to that effect.

ADDRESSES: Comments should be sent to Chief of Records, Office of Foreign Assets Control, Department of the Treasury, 1500 Pennsylvania Avenue, NW., Washington, DC 20220. You may also send your comments by Fax to (202) 622-2500.

FOR FURTHER INFORMATION CONTACT: Director, Office of Foreign Assets Control, (202) 622-2500.

SUPPLEMENTARY INFORMATION: The Office of Foreign Assets Control (OFAC), is the Office of the Department of the Treasury with responsibility for a variety of functions relating to economic sanctions imposed by the United States in the interests of national security, foreign policy and the economy.

The Department of the Treasury is giving notice of an alteration to a routine use currently utilized in two systems of records maintained by OFAC. Currently, routine use (3) found in DO .114-Foreign Assets Control Enforcement Records, and routine use (4) found in DO .118-Foreign Assets Control Licensing Records reads as follows: “Disclose information to a court, magistrate, or administrative tribunal in the course of presenting evidence, including disclosure to opposing counsel or witnesses in the course of civil discovery, litigation, or settlement negotiations or in response to a subpoena or in connection with criminal law proceedings.”

The two routine uses are to be altered by adding the following clause to the end of the existing text: “when the United States or any agency or subdivision thereof is a party to any of the above proceedings and such information is determined to be arguably relevant to the proceeding.” The alteration is necessary to clarify the scope of the routine use within the context of legal proceedings.

In addition, the routine use, as revised above, will be added to DO .111-Office of Foreign Assets Control Census Records which is also maintained by OFAC.

Under “Authority for maintenance of the system “ for both DO .114-Foreign Assets Control Enforcement Records and DO .118-Foreign Assets Control Licensing Records, the authority citation is being changed to permit the reader to more easily locate the statute under which OFAC is acting, and to conform the citation to the style used by the Office of the Federal Register.

The report of altered systems of records, as required by 5 U.S.C. 552a(r), has been submitted to the Committee on Government Reform in the House of Representatives, the Committee on Governmental Affairs in the Senate, and Office of Management and Budget, pursuant to Appendix I to OMB Circular A-130, “Federal Agency Responsibilities for Maintaining Records About Individuals,” November 30, 2000.

The proposed alterations to the OFAC systems of records; DO .111—Office of Foreign Assets Control Census Records; DO .114—Foreign Assets Control Enforcement Records, and DO .118—Foreign Assets Control Licensing Records are set forth below.

Dated: September 26, 2002.
W. Earl Wright, Jr.,
Chief Management and Administrative Programs Officer.

TREASURY/DO .111

system name:

Office of Foreign Assets Control Census Records—Treasury/DO.

* * * * *

Routine uses of records maintained in the system, including categories of users and the purposes of such uses:

Description of changes:

The period “.” at the end of routine use (5) is replaced with a semicolon “;”, and the following routine use is added at the end thereof:

* * * * *

“(6) Disclose information to a court, magistrate, or administrative tribunal in the course of presenting evidence, including disclosure to opposing counsel or witnesses, in the course of civil discovery, litigation, or settlement negotiations in response to a subpoena or in connection with criminal law proceedings when the United States or any agency or subdivision thereof is a party to any of the above proceedings and such information is determined to be arguably relevant to the proceeding.”

* * * * *

TREASURY/DO .114

System name:

Foreign Assets Control Enforcement Records—Treasury/DO.

* * * * *

Authority for maintenance of the system:

* * * * *

Description of change:

The text “100 Stat. 1086, as amended by H.J. Res. 756, Pub. L. 99-631” at the end of the sentence is removed and add in its place:

“Pub. L. 99-440, 100 Stat. 1086, as amended by Pub. L. 99-631, 100 Stat. 3515”

* * * * *

Routine uses of records maintained in the system, including categories of users and the purposes of such uses:

* * * * *

Description of changes:

The following language is inserted at the end of routine use (3), before the semicolon “;”:

(3) * * *

“when the United States or any agency or subdivision thereof is a party to any of the above proceedings and such information is determined to be arguably relevant to the proceeding”

* * * * *

TREASURY/DO .118

System name:

Foreign Assets Control Licensing Records—Treasury/DO.

* * * * *

Authority for maintenance of the system:

* * * * *

Description of change:

The text “100 Stat. 1086, as amended by H.J. Res. 756, Pub. L. 99-631” at the end of the sentence is removed and add in its place:

“Pub. L. 99-440, 100 Stat. 1086, as amended by Pub. L. 99-631, 100 Stat. 3515”

* * * * *

Routine uses of records maintained in the system, including categories of users and the purposes of such uses:

* * * * *

Description of changes:

The following language is inserted at the end of routine use (4), before the semicolon “;”

(4) * * *

“when the United States or any agency or subdivision thereof is a party to any of the above proceedings and such information is determined to be arguably relevant to the proceeding”

* * * * *

[FR Doc. 02-25275 Filed 10-3-02; 8:45 am]

BILLING CODE 4811-16-P